DEPARTMENT OF ENERGY

Federal Energy Regulatory Commission

[Docket No. GT99-26-003]

Tennessee Gas Pipeline Company; Notice of Compliance Filing

March 20, 2001.

Take notice that on March 13, 2001, Tennessee Gas Pipeline Company (Tennessee), tendered for filing as part of its FERC Gas Tariff, Fifth Revised Volume No. 1, the following revised tariff sheet, with an effective date of July 10, 1999:

Substitute Third Revised Sheet No. 159A

Tennessee states that this filing is being made in compliance with the Commission's “Order Accepting Compliance Filing Subject to Condition” issued on February 26, 2001, in the above-referenced dockets. Tennessee Gas Pipeline Company, 94 FERC 61,224 (2001). Tennessee further states that it is requesting an effective date of July 10, 1999 for this tariff sheet. Tennessee requests all waivers of the Commission's Regulations that my be necessary to allow this filing to become effective as of July 10, 1999.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to taken, but will not serve to make protestants parties to the proceedings. Copies of this filing are on file with the Commission and are available for public inspection in the public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at ­ http://www.ferc.fed.us/efi/doorbell.htm.

David P. Boergers,
Secretary.

[FR Doc. 01-7364 Filed 3-23-01; 8:45 am]

BILLING CODE 6717-01-M